TENNESSEE VALLEY AUTHORITY

Northeastern Tributary Reservoirs Land Management Plan, Beaver Creek, Clear Creek, Boone, Fort Patrick Henry, South Holston, Watauga, and Wilbur Reservoirs, Tennessee and Virginia

AGENCY: Tennessee Valley Authority (TVA).

ACTION: Issuance of Record of Decision.

SUMMARY: This notice is provided in accordance with the Council on Environmental Quality's regulations (40 CFR 1500 to 1508) and TVA's procedures for implementing the National Environmental Policy Act (NEPA). TVA has prepared the Northeastern Tributary Reservoirs Land Management Plan (NTRLMP) for the 4,933 acres of TVA-managed public land on Beaver Creek, Clear Creek, Boone, Fort Patrick Henry, South Holston, Watauga, and Wilbur reservoirs in northeast Tennessee and southwest Virginia. On June 10, 2010, the TVA Board of Directors (TVA Board) approved the NTRLMP, implementing the preferred alternative (Alternative C, Modified Proposed Land Use Alternative) identified in the final environmental impact statement (FEIS). Under the plan adopted by the TVA Board, TVA-managed public land on the seven tributary reservoirs has been allocated into broad use categories or “zones”, including Project Operations (Zone 2), Sensitive Resource Management (Zone 3), Natural Resource Conservation (Zone 4), Industrial (Zone 5), Developed Recreation (Zone 6), and Shoreline Access (Zone 7). Zone 1 is applied to reservoir lands that TVA does not own in fee, typically flowage easements, which are not included in the land planning process. Allocations to zones 2 through 7 were made in a manner consistent with TVA's 2006 Land Policy.

FOR FURTHER INFORMATION CONTACT: Amy Henry, NEPA Specialist, Environmental Permits and Compliance, Tennessee Valley Authority, 400 West Summit Hill Drive, WT 11D, Knoxville, Tennessee 37902-1499; telephone (865) 632-4045 or e-mail abhenry@tva.gov.

SUPPLEMENTARY INFORMATION: TVA manages public lands to protect the integrated operation of TVA reservoir and power systems, to provide for appropriate public use and enjoyment of the reservoir system, and to provide for continuing economic growth in the Tennessee Valley.

The seven northeastern tributary reservoirs (NTRs) are located in the northeast corner of Tennessee and southwest corner of Virginia. Boone, Fort Patrick Henry, and South Holston reservoirs are along the South Fork Holston River. Watauga and Wilbur reservoirs are along the Watauga River. Beaver Creek and Clear Creek reservoirs are on tributaries within the South Fork Holston River watershed.

TVA originally acquired nearly 11,000 acres of land on the seven reservoirs. About half of that land has been sold for private use or transferred to State and other federal agencies for public use. TVA presently manages approximately 451 miles of shoreline along these reservoirs. Existing land uses around the reservoirs include TVA project operations, developed and dispersed recreation, private residences, and undeveloped areas. Reservoir properties on Fort Patrick Henry, South Holston, Watauga, and Wilbur reservoirs previously were planned in 1965 utilizing a Forecast System. A reservoir land management plan was prepared for Boone Reservoir in 1999. Beaver Creek and Clear Creek reservoirs have never been planned.

The NTRLMP is designed to guide future decision-making and the management of these reservoir properties in a manner consistent with the 2006 TVA Land Policy and other relevant TVA policies.

Public Involvement

TVA published a notice of intent (NOI) to prepare an EIS in the Federal Register on May 5, 2008. Between May 5 and June 5, 2008, TVA sought input from individuals, various State and Federal agencies, elected officials, and local organizations. Forty-two participants attended a public scoping meeting held on May 20, 2008, in Blountville, Tennessee. TVA received 24 scoping comments, the majority of which involved management of natural and recreation resources and reservoir water levels. Individuals expressed their interest in additional recreational opportunities and the U.S. Forest Service expressed interest in increased access to some of the reservoirs. TVA used these comments to develop three alternatives for assessment in the EIS: Alternative A—No Action Alternative; Alternative B—Proposed Land Use Alternative; and Alternative C—Modified Proposed Land Use Alternative.

The notice of availability (NOA) of the NTRLMP draft EIS (DEIS) was published in the Federal Register on October 9, 2009. TVA accepted comments on the DEIS until November 23, 2009. Approximately 40 people attended a public meeting on October 27, 2009, in Johnson City, Tennessee. TVA received a total of 37 comments from individuals; interested organizations; and Federal, State, and local government agencies.

Several individuals expressed appreciation for the opportunity to be involved in the planning process and supported Alternatives B and/or C. Other comments addressed a need for recreation opportunities, various land uses, and questions about water access rights. Comments also included concern about shoreline erosion and trash, interest in public access to the William Bean Historical Monument near Boone Reservoir, and the protection of historic resources. Comments from Federal and State agencies were largely informational; several agencies encouraged continued interagency coordination when specific land uses are proposed for reservoir lands.

TVA reviewed and prepared responses to all of these comments. In some cases, the FEIS was revised to reflect the information or issues presented. After considering all of the comments, the FEIS was completed and distributed to commenting agencies and the public. In the FEIS, TVA selected Alternative C as the preferred alternative. The NOA of the FEIS was published in the Federal Register on March 12, 2010, when the FEIS was distributed.

Alternatives Considered

TVA considered three alternatives for managing 254 parcels of public land, comprising approximately 4,933 acres, under its management around the reservoirs. Under all alternatives, TVA would continue to conduct an environmental review to address site- and project-specific issues prior to the approval of any proposed development or activity on an NTR parcel. Future activities and land uses would be guided by the TVA Land Policy. About 95 percent of NTR lands (4,679 acres) had previous commitments specified in land use agreements (e.g., license, easement, contract) or existing plans. No changes to committed lands are proposed under any alternative. TVA land use allocations are not intended to supersede deeded land rights or land ownership.

No Action (Alternative A): TVA would not implement an NTRLMP and would continue using current land plans if they exist. The reservoir lands would be managed according to TVA policies and, respectively, any existing land use agreement (Clear Creek and Beaver Creek), previous forecast (Fort Patrick Henry, South Holston, Watauga, Wilbur), or plan (Boone) for the relevant reservoir. Reservoir lands would not be allocated according to TVA's current land use planning zones and would not be in complete alignment with current TVA policies.

Proposed Land Use (Alternative B) and Modified Proposed Land Use (Alternative C): Under both Action Alternatives, TVA would implement an NTRLMP. TVA-managed lands would be allocated to one of the seven land use zones according to current land use, existing data, and newly collected data. Under Alternative C, allocations would be based upon public comments and other information obtained during the scoping process, in addition to information considered under Alternative B.

Under Alternatives B and C, the proportion of lands allocated to each zone is similar. About half of the land would be allocated to Natural Resource Conservation (Zone 4) or Sensitive Resource Management (Zone 3). About one-third would be allocated to Project Operations (Zone 2), and the remainder would be allocated to Developed Recreation (Zone 6), Shoreline Access (Zone 7), or Industrial (Zone 5) uses. Compared to Alternative B, zone allocations under Alternative C differ on 19 of the 254 parcels. Alternative C includes slightly more land in Zone 6, and slightly less land in Zones 3 and 4. Under Alternative C, parcels on Fort Patrick Henry, South Holston, and Watauga reservoirs that contain rare plants and plant communities, cultural resources, and high-quality wetlands would be allocated to Zone 3, which allows the least opportunity for development, and is, therefore, the most protective of sensitive resources. Those parcels would be allocated to Zone 4 under Alternative B. Additionally, six parcels on South Holston and Watauga reservoirs would be allocated to Zone 6 under Alternative C, which would provide additional recreational opportunities.

In the FEIS, TVA considered the environmental consequences of the alternatives on a wide variety of environmental resources. No significant direct, indirect or cumulative impacts are expected to occur to any resource under any of the alternatives. Under any alternative, potential impacts to sensitive resources, such as species Federally listed as endangered or threatened, cultural resources, and wetlands would be identified during project-specific evaluations.

Comments on the FEIS

TVA received comments on the FEIS from the U.S. Environmental Protection Agency (USEPA); the U.S. Department of Agriculture, Natural Resources Conservation Service (NRCS); and the Virginia Department of Transportation (VDOT). The Tennessee Department of Transportation and Virginia State Historic Preservation Officer (SHPO) acknowledged receipt of the FEIS but offered no comments.

USEPA expressed preference for Alternative B, based upon a finding that Alternative B would result in a reservoir land plan with minimum opportunity for land disturbance. However, the comments acknowledged that Alternative C incorporates public comments and other scoping information into the planning process and that the differences between Alternatives B and C are small. USEPA rated the FEIS as “Lack of Objections.”

Additionally, USEPA offered comments regarding the Beaver Creek watershed in Knox County, Tennessee. USEPA encouraged TVA to continue coordinating efforts and participating with the Beaver Creek Task Force. USEPA recommended that future TVA watershed activities remain in compliance with all approved Federal Emergency Management Agency flood studies completed within the Beaver Creek watershed. The agency also recommended that TVA coordinate efforts with the Knox County Stormwater Program, the USEPA Region 4 Total Maximum Daily Load Program, and the Tennessee Nonpoint Source Management Program.

While the Knox County Beaver Creek watershed is outside the area addressed in the FEIS, TVA acknowledges USEPA's emphasis on water quality in the Tennessee Valley. Water quality is a major consideration in the management of TVA land and reservoirs. TVA is currently a participating member of the task force and, together with the Beaver Creek Watershed Association, is implementing a grant that addresses pathogens and sediment in the impaired streams. TVA has hosted members of USEPA Region 4 and Washington offices to tour the Beaver Creek watershed. Additionally, TVA is working with the task force to implement a pilot project in the Knox County Beaver Creek watershed.

In other agency comments, the NRCS indicated it had no significant comments on the FEIS, but noted that future land use requests on the reservoirs may require interagency coordination to ensure compliance with the Farmland Protection Policy Act. TVA currently implements the NRCS recommendation as part of standard environmental review procedures. The environmental review conducted by TVA prior to approving a proposed use of reservoir land would include a review of the potential effects on prime or unique farmland and subsequent coordination with the NRCS, as appropriate.

Similarly, VDOT cited a statute and guidance for analyzing and mitigating traffic impacts to the highway system, indicating that any proposed new development on TVA-managed land around NTRs would need to adhere to the statute. The environmental review conducted by TVA prior to approving a proposed use of reservoir lands would include an evaluation of effects to transportation systems.

Decision

On June 10, 2010, the TVA Board approved the NTRLMP as described in preferred Alternative C of the FEIS. TVA believes that implementation of Alternative C provides suitable opportunities for developed recreation, conservation of natural resources, and management of sensitive resources. This decision incorporates mitigation measures that would further minimize the potential for adverse impacts to the environment. These measures are listed below.

Environmentally Preferred Alternative

The environmentally preferred alternative is Alternative C, under which approximately half of NTR lands are allocated to natural resource conservation (Zone 4) and sensitive resource management (Zone 3) uses, and all parcels with identified sensitive resources are allocated to Zone 3, which allows the least opportunity for land disturbance and is, therefore, the most protective land use zone.

Mitigation Measures

TVA is adopting the following measures to minimize environmental impacts:

• All activities will be conducted in accordance with the stipulations defined in the programmatic agreement (PA) between TVA, the Tennessee SHPO, and the Advisory Council on Historic Preservation. Until a similar PA is executed with the Virginia SHPO, TVA will incorporate the identification, evaluation, and treatment procedures established under Section 106 of the National Historic Preservation Act to effectively mitigate any adverse effects to historic properties.

• Invasive plants listed as Rank 1 (Severe Threat), Rank 2 (Significant Threat), or Rank 3 (Lesser Threat) on the Tennessee Exotic Plant Pest Council list of Invasive Exotic Pest Plants in Tennessee will not be used in landscaping activities on the reservoir lands.

• Revegetation and erosion-control measures will utilize seed mixes comprised of native species or noninvasive nonnative species.

With the implementation of the above measures, TVA has determined that adverse environmental impacts of future land development proposals on the TVA-managed reservoir lands would be substantially reduced. Before taking actions that could result in adverse environmental effects or before authorizing such actions to occur on properties it controls, TVA would perform a site-specific environmental review to determine the need for other necessary mitigation measures or precautions. These protective measures represent all of the practicable measures to avoid or minimize environmental harm associated with the alternative adopted by the TVA Board.

Dated: July 7, 2010.
Anda A. Ray,
Senior Vice President, Environment and Technology.

[FR Doc. 2010-16976 Filed 7-12-10; 8:45 am]

BILLING CODE 8120-08-P